DEPARTMENT OF DEFENSE

Department of the Army, Corps of Engineers

Notice of Availability of the Draft Environmental Impact Statement for the Dam Safety Assurance Evaluation Report, Dover Dam, City of Dover, Tuscarawas County, OH

AGENCY: Department of the Army, U.S. Army Corps of Engineers, DOD.

ACTION: Notice of availability.

SUMMARY: This notice replaces the previously published Federal Register notice dated January 9, 2007 (72 FR 958). Pursuant to the National Environmental Policy Act (NEPA), the U.S. Army Corps of Engineers (Corps), Huntington District has prepared an Environmental Impact Statement (EIS) to disclose potential impacts to the natural, physical, and human environment resulting from modifications to Dover Dam. This high hazard dam does not conform to current design standards related to stability and sliding during a probably maximum flood. Modifications are proposed so the Dam will meet these standards.

DATES: Written comments on the Draft Environmental Impact Statement will be accepted for 45 days following publication of the U.S. Environmental Protection Agency's Notice of Availability for the Draft Environmental Impact State (DEIS) in the Federal Register anticipated to occur on or before January 26, 2007.

ADDRESSES: Send all written comments and suggestions concerning this proposed project to Rodney G. Cremeans, Project Manager PM-PP-P, U.S. Army Corps of Engineers, Huntington District, 502 Eighth Street, Huntington, WV 25701-2070. E-mail: Rodney.G.Cremeans@Irh01.usace.army.mil.

FOR FURTHER INFORMATION CONTACT: Mr. Rodney Cremeans, Telephone: (304) 399-5170.

SUPPLEMENTARY INFORMATION: Section 1203 of the Water Resources Development Act of 1986 (Pub. L. 99-662) provides for modification of completed Corps dams and related facilities for safety purposes due to new hydrologic or seismic data or changes in state-of-the-art design or construction criteria. The National Weather Service generalized estimates of Probable Maximum Precipitation (PMP) were used to develop flood scenarios and guide design criteria for structures such as Dover Dam. These rainfall estimates are considered extreme, with a very low probability of occurrence. However, the worst-case storms associated with the PMP events retain some probability of occurrence. The Corps has determined the dam cannot safely accommodate flooding from theoretical Probable Maximum Flood (PMF) events. The dam is also believed to be unstable against sliding under conditions below the PMF due to known faulting and uncertain foundation bedrock quality. The objectives of the project are to develop the most cost effective, environmentally sound plan to upgrade Dover Dam to meet current hydrologic design standards and to address stability issues associated with inadequate bedrock foundation. The objectives also include protecting project facilities including the adjacent park area and Ohio Route 800.

Three alternatives: (1) Raise Dam, (2) Dam Overtop and (3) No Federal Action are evaluated in detail in the EIS. The Raise Dam alternative would allow the dam to safely pass 100% of the PMF through raising the existing non-overflow sections with concrete parapet walls constructed on the existing dam. To address inadequate bedrock foundation and potential for sliding under PMF conditions, the Raise Dam alternative also includes installation of anchors in the spillway and stilling basin. The Dam Overtop alternative would modify the existing non-overflow section of the dam to withstand overtopping, and also includes installation of anchors in the spillway and stilling basin to address inadequate bedrock foundation. Under the No Federal Action alternative no modifications would be done. The Raise Dam alternative was chosen as the recommended plan because it more reliably meets project objectives, minimizes costs, and has the least adverse environmental effects.

The Corps invites full public participation to promote open communication and better decision-making. All persons and organizations that have an interest in the Dover Dam Project are urged to participate in this NEPA evaluation process. Assistance will be provided upon request to anyone having difficulty with learning how to participate.

A public meeting will be held on January 18th at 7 p.m. at the McDonald Marlite Conference Center in New Philadelphia, OH. The public hearing will be announced in advance through notices, media news releases, and/or mailings.

Copies of the Draft EIS may be reviewed at the following locations:

1. Dover Public Library, 525 N. Walnut Street, Dover, OH 44622.

2. Tuscarawas County Public Library, 121 Fair Avenue NW., New Philadelphia, OH 44663.

3. US Army Corps of Engineers Muskingum Area Office, 5336 State Route 800 NE, Dover, OH 44662-6910.

4. US Army Corps of Engineers, Huntington District, Room 3100, 502 Eighth Street, Huntington, WV 25701.

5. http://www.Irh.usace.army.mil/projects/review.

Brenda S. Bowen,
Army Federal Register Liaison Officer.

[FR Doc. 07-281 Filed 1-23-07; 8:45 am]

BILLING CODE 3710-GM-M